ENVIRONMENTAL PROTECTION AGENCY

[EPA-HQ-OW-2015-0335; FRL-9944-91-OW]

Extension of Public Comment Period for the Draft EPA-USGS Technical Report: Protecting Aquatic Life From Effects of Hydrologic Alteration

AGENCY: Environmental Protection Agency (EPA).

ACTION: Notice; extension of comment period.

SUMMARY: The Environmental Protection Agency (EPA) is extending the comment period for the draft technical report: Protecting Aquatic Life from Effects of Hydrologic Alteration. In response to stakeholder requests, the comment period will be extended for an additional 45 days, from May 3, 2016 to June 17, 2016.

DATES: Comments must be received on or before June 17, 2016.

ADDRESSES: Submit your comments, identified by Docket ID No. EPA-HQ-OW-2015-0335, to the Federal eRulemaking Portal: http://www.regulations.gov. Follow the online instructions for submitting comments. Once submitted, comments cannot be edited or withdrawn. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Diana Eignor, Health and Ecological Criteria Division, Office of Water (Mail Code 4304T), Environmental Protection Agency, 1200 Pennsylvania Avenue NW., Washington, DC 20460; telephone number: (202) 566-1143; email address: eignor.diana@epa.gov.

SUPPLEMENTARY INFORMATION: On March 1, 2016 (81 FR 10620), EPA and United States Geological Survey (USGS) announced the availability of the draft technical report: Protecting Aquatic Life from Effects of Hydrologic Alteration, and opened a 60-day public review and comment period to solicit additional scientific views, data, and information regarding the science and technical approach used in the derivation of the draft technical document.

The original deadline to submit comments was May 2, 2016. This action extends the comment period for 45 days. Written comments must now be received by June 17, 2016. The draft report and other supporting materials may also be viewed and downloaded from EPA's Web site at https://www.epa.gov/wqc/aquatic-life-ambient-water-quality-criteria#draft.

Dated: April 6, 2016.
Joel Beauvais,
Deputy Assistant Administrator, Office of Water.

[FR Doc. 2016-08491 Filed 4-12-16; 8:45 am]

BILLING CODE 6560-50-P